DEPARTMENT OF ENERGY

Federal Energy Regulatory Commission

[Project No. 5737-032]

Santa Clara Valley Water District; Notice of Availability of the Final Environmental Impact Statement for Dam Retrofit and Surrender of the Anderson Dam Project

In accordance with the National Environmental Policy Act of 1969 (NEPA) and the Federal Energy Regulatory Commission's (Commission) regulations, 18 CFR part 380, Commission staff reviewed the Santa Clara Valley Water District's (exemptee) application to retrofit the Anderson Dam and to surrender the exemption for the Anderson Dam Project No. 5737 (Project) and has prepared a final environmental impact statement (EIS).¹ The Anderson Dam project consists of: a 240-foot-high, 1,385-foot-long dam; a reservoir with a maximum surface area of 1,240 acres and storage capacity of 89,278 acre-feet at a spillway elevation of 627.8 feet (North American Vertical Datum 1988); a 54-inch diameter, 2,800-foot-long penstock; a powerhouse with a total installed capacity of 800 kilowatts; and a 100-foot-long transmission line connecting the project to the electrical grid. The project is located on Coyote Creek in Santa Clara County, California, and does not occupy any federal lands.

¹ The unique identification number for documents relating to this environmental review is EISX-019-20-000-1727256582.

The final EIS contains staff evaluations of the applicant's proposal and the alternatives to the proposed action. The final EIS documents the views of governmental agencies, non-governmental organizations, affected Native-American Tribes, the public, the applicant, and Commission staff.

In addition to publishing the full text of this document in the Federal Register, the Commission provides all interested persons with an opportunity to view and/or print the final EIS via the internet through the Commission's Home Page (http://www.ferc.gov/), using the “eLibrary” link. Enter the docket number (P-5737) in the docket number field to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

For public inquiries and assistance with making filings such as interventions, comments, or requests for rehearing, contact the Office of Public Participation at (202) 502-6595 or OPP@ferc.gov.

For further information, contact Holly Frank at (202) 502-6833 or holly.frank@ferc.gov.

(Authority: 18 CFR 2.1)

Dated: February 6, 2026.
Debbie-Anne A. Reese,
Secretary.

[FR Doc. 2026-02755 Filed 2-10-26; 8:45 am]

BILLING CODE 6717-01-P